COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a service to the Procurement List that will be furnished by nonprofit agencies employing persons who are blind or have other severe disabilities, and deletes products and services from the Procurement List previously furnished by such agencies.

DATES: Date added to and deleted from the Procurement List: April 12, 2020

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

On 12/20/2019, the Committee for Purchase From People Who Are Blind or Severely Disabled published notice of proposed additions to the Procurement List.

After consideration of the material presented to it concerning capability of qualified nonprofit agencies to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Information Technology Support

Mandatory for: U.S. Air Force, 96th Medical Group, Eglin AFB, FL

Mandatory Source of Supply: Global Connections to Employment, Inc., Pensacola, FL

Contracting Activity: DEPT OF THE AIR FORCE, FA2823 AFTC PZIO

The Committee finds good cause to dispense with the 30-day delay in the effective date normally required by the Administrative Procedure Act. See 5 U.S.C. 553(d). This addition to the Committee's Procurement List is effectuated because of the expiration of the U.S. Air Force, Information Technology Support contract. The U.S. Air Force contacted, and has worked diligently with, the AbilityOne Program to fulfill this service need under the AbilityOne Program. To avoid performance disruption, and the possibility that the U.S. Air Force will refer its business elsewhere, this addition must be effective on March 31, 2020, ensuring timely execution for an April 1, 2020 start date, while still allowing 18 days for comment. Pursuant to its own regulation 41 CFR 51-2.4, the Committee conducted an impact analysis on the current contractor and determined that no severe adverse financial impact will result from the Commission's decision. The incumbent graduated from the Small Business Administration's 8(a) Program, and is no longer eligible for award of the requirement, which will remain under the 8(a) Program if not placed on the Procurement List. The Committee also published a notice of proposed Procurement List addition in the Federal Register on December 13, 2019, and did not receive any comments from any interested persons, including from the incumbent contractor. This addition will not create a public hardship and has limited effect on the public at large, but, rather, will create new jobs for other affected parties—people with significant disabilities in the AbilityOne Program who otherwise face challenges obtaining and maintaining employment. Moreover, this addition will enable U.S. Air Force operations to continue without interruption.

Deletions

On 2/7/2020, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following products and services are deleted from the Procurement List:

Products

NSN—Product Name:

7530-01-583-0558—Folders, File, Reinforced Tab, Manila, ⅖ Cut, Letter

Mandatory Source of Supply: Central Association for the Blind & Visually Impaired, Utica, NY

Contracting Activity: GSA/FAS ADMIN SVCS ACQUISITION BR(2, NEW YORK, NY

NSNs—Product Names:

7510-01-660-3972—Toner Cartridge, Remanufactured, Standard Yield, Black, Hp LaserJet 8100/8150 Compatible

7510-01-625-1726—Toner cartridge, Laser, Extra High Yield, HP Compatible for the P1102

7510-01-625-0852—Toner Cartridge, Laser, Double Yield, Compatible w/Lexmark E250d & other LM, Dell, & IBM printers

Mandatory Source of Supply: Alabama Industries for the Blind, Talladega, AL

Contracting Activity: GSA/FAS ADMIN SVCS ACQUISITION BR(2, NEW YORK, NY

Services

Service Type: Administrative Services

Mandatory for: GSA, Field Office Los Angeles: 312 N. Spring Street, Los Angeles, CA

Mandatory for: GSA, Field Office Los Angeles: 300 N. Los Angeles Street, Los Angeles, CA

Mandatory for: GSA, Field Office Los Angeles: 888 S. Fugueroa, Los Angeles, CA

Mandatory Source of Supply: Elwyn, Aston, PA

Contracting Activity: GENERAL SERVICES ADMINISTRATION, FPDS AGENCY COORDINATOR

Service Type: Grounds Maintenance

Mandatory for: Hannah Houses & adjacent property 157-159 Conception St., Mobile AL

Mandatory Source of Supply: GWI Services, Inc., Mobile, AL

Contracting Activity: PUBLIC BUILDINGS SERVICE, ACQUISITION DIVISION/SERVICES BRANCH

Service Type: Administrative Services

Mandatory for: GSA, National Furniture Center: Crystal Mall Building 4, Arlington, VA

Mandatory Source of Supply: ServiceSource, Inc., Oakton, VA

Contracting Activity: GENERAL SERVICES ADMINISTRATION, FPDS AGENCY COORDINATOR

Service Type: Grounds Maintenance

Mandatory for: U.S. Court of Appeals: 7th and Mission Streets, San Francisco, CA

Mandatory Source of Supply: Rubicon Programs, Inc., Richmond, CA

Contracting Activity: GENERAL SERVICES ADMINISTRATION, FPDS AGENCY COORDINATOR

Michael R. Jurkowski,
Deputy Director, Business & PL Operations.

[FR Doc. 2020-05200 Filed 3-12-20; 8:45 am]

BILLING CODE 6353-01-P